DEPARTMENT OF LABOR

Employment and Training Administration

[TA-W-52,869]

Clayson Knitting Company, Inc., Star, NC; Notice of Termination of Investigation

Pursuant to section 221 of the Trade Act of 1974, as amended, an investigation was initiated on September 17, 2003 in response to a worker petition filed a company official on behalf of workers at Clayson Knitting Company, Inc., Star, North Carolina.

The petitioner has requested that the petition be withdrawn. Consequently, the investigation has been terminated.

Signed at Washington, DC this 30th day of September 2003
Elliott S. Kushner,
Certifying Officer, Division of Trade Adjustment Assistance.

[FR Doc. 03-27928 Filed 11-5-03; 8:45 am]

BILLING CODE 4510-30-P